DEPARTMENT OF THE INTERIOR

Bureau of Indian Affairs

Submission of Paperwork Reduction Act Request to Office of Management and Budget

AGENCY: Bureau of Indian Affairs, Interior.

ACTION: Notice.

SUMMARY: This notice announces that the Information Collection Request for Bureau of Indian Affairs (BIA) for a Certificate of Degree of Indian or Alaska Native Blood (CDIB) has been submitted to the Office of Management and Budget (OMB) for approval under the provisions of the Paperwork Reduction Act (44 U.S.C. chapter 25). The BIA is soliciting public comments on the subject proposal.

DATES: Written comments must be submitted on or before July 16, 2003.

ADDRESSES: Written comments should be sent directly to the Desk Officer for the Department of the Interior, by facsimile at (202) 395-5806 or you may send an e-mail to: Ruth_Solomon@omb.eop.gov.

Send a copy of your comments to Duane Bird Bear, Chief, Division of Tribal Government Services, Office of Tribal Services, Bureau of Indian Affairs, 1849 C Street, NW., MS-320-SIB, Washington, DC 20240.

FOR FURTHER INFORMATION CONTACT: Copies of the information collection may be obtained by contacting Carolyn Newman, 202-513-7641.

SUPPLEMENTARY INFORMATION: No comments on the workload burden or the form itself (OMB Control No. 1076-0153) were received during or before the close of the public comment period on April 21, 2003, as requested in the Notice published in the Federal Register (68 FR 7800) on February 18, 2003. Comments were received but they concerned substantive requirements for descendants of members of federally recognized Indian tribes but who were not themselves enrolled members of the tribe. This issue will be addressed during rule revision.

Abstract

The purpose of this collection is to assist in determining the eligibility of individuals for various programs and services available to American Indians and Alaska Natives. This part specifies the requirements for the documentation of degree of Indian blood and uniform standards by which we may issue, amend, or invalidate a Certificate of Degree of Indian or Alaska Native Blood. Disclosure of information may be given to the Department of the Interior and the Department of Justice when required for litigation or anticipated litigation. Notification of inquiries or access must be addressed to the appropriate Regional Director, Bureau of Indian Affairs.

We have adjusted the estimated number of respondents and the burden based on historical trend and for these reasons: (1) The number of federally recognized tribes has remained stable, (2) the number of requests for the CDIB form, usually issued once, has decreased and (3) the BIA field offices and agencies have reduced the number of CDIB forms, processed pending the issuance of a final rule.

Submission of this information is voluntary. However, not providing information may result in a determination that an individual is not eligible to receive program services based upon his/her status as an American Indian or Alaska Native. The information to be collected includes: certificates of birth and death, probate determinations, court orders, affidavits, Federal or tribal census records and Social Security records.

Request for Comments

The Department of the Interior invites comments on:

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

The Office of Management and Budget has up to 60 days to approve or disapprove the information collection but may respond after 30 days; therefore, comments submitted in response to this notice should be submitted to OMB within 30 days in order to assure their maximum consideration. Please note: comments, names, addresses of commentators are available for public review during regular business hours. If you wish us to withhold any information, you must state this prominently at the beginning of your comment. We will honor your request to the extent allowable by law. Please note that an agency may not conduct or sponsor, and a person is not required to respond to, a collection of information unless a currently valid OMB control number is displayed. You may request copies of the information collection forms and our submission to OMB from the person listed in FOR FURTHER INFORMATION CONTACT section.

Title: Request for Certificate of Degree of Indian or Alaska Native Blood, 25 CFR part 70.

OMB Control number: 1076-0153.

Description of respondents: Individual Indians who may be eligible to receive program services based upon their status and/or degree of Indian or Alaska Native blood.

Frequency: All information and documentation is to be collected once from each requester.

Estimated completion time: The reporting and record keeping burden for this collection of information is estimated to average 1.5 hours for each response for an estimated 154,200 requests per year or 231,300 hours, including the time for reviewing instructions, searching existing data sources and gathering needed data. In addition, 2,400 appeals are expected annually at 2.5 hours per appeal, which adds 6000 hours of burden. Thus, the estimated total annual reporting and record keeping burden for this entire collection is estimated to be 237,300 hours.

Total annual burden: 237,300 hours.

Estimated non-hour cost: There are no costs to consider, except postage and the cost of duplicating the original application form, because verification of the information is already available for other reasons.

Dated: June 6, 2003.
Aurene M. Martin,
Assistant Secretary—Indian Affairs.

[FR Doc. 03-15147 Filed 6-13-03; 8:45 am]

BILLING CODE 4310-4J-P 1